ENVIRONMENTAL PROTECTION AGENCY

[FRL-6900-1]

Clean Water Act Section 303(d): Availability of Total Maximum Daily Loads (TMDLs)

AGENCY: Environmental Protection Agency (EPA).

ACTION: Notice of availability.

SUMMARY: This notice announces the availability for comment of the administrative record file for nine TMDLs prepared by EPA Region 6 for waters listed in Louisiana's Mermentau and Vermilion/Teche river basins, under section 303(d) of the Clean Water Act (CWA). EPA prepared these TMDLs in response to a Court Order dated October 1, 1999, in the lawsuit Sierra Club, et al. v. Clifford et al., No. 96-0527, (E.D. La. Oct. 1, 1999). Under this court order, EPA is required to prepare TMDLs when needed for waters on the Louisiana 1998 section 303(d) list by December 31, 2007.

DATES: Comments on the nine TMDLs must be submitted in writing to EPA on or before December 13, 2000.

ADDRESSES: Comments on the nine TMDLs should be sent to Ellen Caldwell, Environmental Protection Specialist, Water Quality Protection Division, U.S. Environmental Protection Agency Region 6, 1445 Ross Ave., Dallas, TX 75202-2733. For further information, contact Ellen Caldwell at (214) 665-7513. The administrative record file for these TMDLs is available for public inspection at this address as well. Copies of the TMDLs and their respective calculations may be viewed at www.epa.gov/region6/water/tmdl.htm, or obtained by calling or writing Ms. Caldwell at the above address. Please contact Ms. Caldwell to schedule an inspection.

FOR FURTHER INFORMATION CONTACT: Ellen Caldwell at (214) 665-7513.

SUPPLEMENTARY INFORMATION: In 1996, two Louisiana environmental groups, the Sierra Club and Louisiana Environmental Action Network (plaintiffs), filed a lawsuit in Federal Court against the United States Environmental Protection Agency (EPA), styled Sierra Club, et al. v. Clifford et al., No. 96-0527, (E.D. La. Oct. 1, 1999). Among other claims, plaintiffs alleged that EPA failed to establish Louisiana TMDLs in a timely manner. Discussion of the court's order may be found at 65 FR 54032 (September 6, 2000).

EPA Seeks Comments on Nine TMDLs

By this notice EPA is seeking comment on the following nine TMDLs for waters located within the Mermentau and Vermilion/Teche basins:

Subsegment | Waterbody name | Pollutant
050703 | White Lake | Total Dissolved Solids.
050703 | White Lake | Chloride.
060801 | Vermilion River—Headwaters To Bayou Fusilier Bourbeaux Junction to New Flanders | Sulfate.
060802 | Vermilion River—From New Flanders to Intracoastal Waterway | Sulfate.
060205 | Bayou Teche—Headwaters at Bayou Courtableau to I-10 | Sulfate.
060205 | Bayou Teche—Headwaters at Bayou Courtableau to I-10 | Chloride.
060101 | Bayou Cocodrie | Total Dissolved Solids.
060206 | Indian Creek Reservoir | Temperature.
060102 | Bayou Cocodrie | Total Dissolved Solids.

EPA requests that the public provide to EPA any water quality related data and information that may be relevant to the calculations for these TMDLs, or any other comments relevant to these TMDLs. EPA will review all data and information submitted during the public comment period and revise the nine TMDLs where appropriate. EPA will then forward the TMDLs to the Court and the Louisiana Department of Environmental Quality (LDEQ). LDEQ will incorporate the TMDLs into its current water quality management plan.

Dated: October 20, 2000.
Jayne Fontenot,
Acting Director, Water Quality Protection Division, Region 6.

[FR Doc. 00-28956 Filed 11-9-00; 8:45 am]

BILLING CODE 6560-50-U